DEPARTMENT OF THE INTERIOR

Bureau of Land Management

[AK-040-1430-ET; AA-82857]

Notice of Public Open House for Russian River Withdrawal

AGENCY: Bureau of Land Management, Interior.

ACTION: Notice.

SUMMARY: The U.S. Department of Agriculture, Forest Service, has filed an application in accordance with 43 CFR part 2300. The Bureau of Land Management Anchorage Field Office and the Forest Service Seward Ranger District announces a public Open House for the general public to consider and comment on the Forest Service application to withdraw approximately 2,998 acres of National Forest System land within the Russian River and Upper Russian Lake Recreation Corridor.

DATES: The meeting dates are:

1. February 25, 2002, 7 p.m. to 9 p.m. Anchorage.

2. February 26, 2002, 7 p.m. to 9 p.m. Soldotna.

ADDRESSES: The meeting locations are:

1. Anchorage—Campbell Creek Science Center, 6881 Abbott Loop Road, Anchorage, AK.

2. Soldotna—Kenai Peninsula Borough Assembly Chambers, 144 N. Binkley, Soldotna, AK.

SUPPLEMENTARY INFORMATION: On February 2, 2001, the U.S. Department of Agriculture, Forest Service, filed an application to withdraw the Forest Service lands from the public land laws, including location and entry under the United States mining laws, subject to valid existing rights. The public lands have been and will remain open to mineral leasing. The proposed withdrawal will aid in protecting the fisheries, recreational, and archeological resources of the area.

The purpose of the Open House is to initiate public involvement and to solicit public comment on the proposed Forest Service withdrawal. Information obtained through the public Open House will be incorporated into the Environmental Assessment. If warranted, an Environmental Impact Statement will be done.

FOR FURTHER INFORMATION CONTACT: Kathy Stubbs at (907) 267-1284.

Peter Ditton,
Anchorage Field Manager.

[FR Doc. 02-2159 Filed 1-28-02; 8:45 am]

BILLING CODE 4310-JA-P